DEPARTMENT OF THE INTERIOR

Bureau of Land Management

[66⅔% to CO-956-1420-BJ-0000-241A; 13⅓% to CO-956-9820-BJ-CO001-241A; 20% to CO-956-9820-BJ-CO003-241A]

Colorado: Filing of Plats of Survey

April 1, 2002.

The plats of survey of the following described land will be officially filed in the Colorado State Office, Bureau of Land Management, Lakewood, Colorado, effective 10:00 a.m., April 1, 2002. All inquiries should be sent to the Colorado State Office, Bureau of Land Management, 2850 Youngfield Street, Lakewood, Colorado 80215-7093.

The plat representing the entire record of the dependent resurvey Mineral Survey No. 961, Union lode, in the SW¼ of section 33, T. 2 S., R. 73 W., Sixth Principal Meridian, Group 1241, Colorado, was accepted January 17, 2002.

The plat representing the entire record of the dependent resurvey Mineral Survey No. 846, H. B. lode, in the SE¼ of section 34, T. 2 S., R. 73 W., Sixth Principal Meridian, Group 1241, Colorado, was accepted January 17, 2002.

The plat representing the partial subdivision of section 22, T. 14 S., R. 82 W., Sixth Principal Meridian, Group 1320, Colorado, was accepted March 5, 2002.

The Plat representing the dependent resurvey of portions of west boundary, subdivisional lines, certain tract lines and the subdivision of section 7, and a metes-and-bounds survey, T. 37 N., R. 2 W., New Mexico Principal Meridian, Group 1255, Colorado, was accepted March 13, 2002.

The Plat representing the dependent resurvey of a portion of the subdivisional lines, the partial subdivision of sections 12 and 13, and a metes-and-bounds survey, T. 37 N., R. 3 W., New Mexico Principal Meridian, Group 1255, Colorado, was accepted March 13, 2002.

These surveys were requested by the Forest Service for administrative purposes.

The plat representing the dependent resurvey of portions of the west boundary, subdivisional lines, certain private claim lines, and the subdivision of sections 7 and 18, T. 7 S., R. 87 W., Sixth Principal Meridian, Group 1300, Colorado, was accepted January 23, 2002.

The supplemental plat correcting the over distance and the distances of the W½ of the East and West center line of section 35, T. 11 N., R. 79 W. Sixth Principal Meridian, Colorado, was accepted January 24, 2002.

The supplemental plat creating new lots 60 and 61, from original lot 12 in the SW¼NE¼ of section 12, T. 1 N., R. 73 E., Sixth Principal Meridian, Colorado, was accepted January 29, 2002.

The supplemental plat creating new lots 119 and 120, from original lot 107 in the SE¼SW¼ of section 7, T. 1 N., R. 72 E., Sixth Principal Meridian, Colorado, was accepted January 29, 2002.

The supplemental plat creating new lots 62 and 63, based upon the excluded area of Mineral Survey No. 10880, Helen C. lode, in the S½NW¼ of section 12 and also identifies new lot 64 in the SE¼SE¼ of section 12, T. 1 N., R. 73 E., Sixth Principal Meridian, Colorado, was accepted January 30, 2002.

The supplemental plat amending original lot 135, in the S½NE¼SW¼ of section 6 to new lot 178 by excluding the area within Mineral Survey No. 19159, Legal Tender lode as described in the field notes of the Dependent Resurvey and Survey approved January 31, 1996, T. 1 N., R. 72 W., Sixth Principal Meridian, Colorado, was accepted January 31, 2002.

The supplemental plat amending original lot 112, in the SE¼NW¼ of section 6 to new lot 179 by excluding the area within Mineral Survey No. 14963, Maid of Erin lode as described in the field notes of the Dependent Resurvey and Survey approved January 31, 1996, T. 1 N., R. 72 W., Sixth Principal Meridian, Colorado, was accepted January 31, 2002.

The plat of the entire record of the dependent resurvey of Mineral Survey No. 65, Maxwell lode, and a portion of the subdivisional lines, T. 1 N., T. 72 W., Sixth Principal Meridian, Group 1236, Colorado, was accepted February 13, 2002.

The plat representing the dependent resurvey of a portion of the subdivisional lines, and the subdivision of sections 15, T. 50 N., R. 1 E., New Mexico Principal Meridian, Group 1349, Colorado, was accepted February 21, 2002.

The plat representing the entire record of the dependent resurvey of a portion of the subdivisional lines, and the metes-and-bounds survey creating new lots in the NW¼ of section 19, T. 49 N., R. 10 E., New Mexico Principal Meridian, Group 1314, Colorado, was accepted March 27, 2002.

These surveys and supplemental plats were requested by the Bureau of Land Management for administrative purposes.

Darryl A. Wilson,
Chief Cadastral Surveyor for Colorado.

[FR Doc. 02-11091 Filed 5-3-02; 8:45 am]

BILLING CODE 4310-JB-P